FEDERAL ELECTION COMMISSION

Sunshine Act Meeting

AGENCY: Federal Election Commission.

DATE AND TIME: Tuesday, June 14, 2016 at 10:00 a.m.

PLACE: 999 E Street NW., Washington, DC.

STATUS: This Meeting Will Be Closed to the Public.

FEDERAL REGISTER NOTICE OF PREVIOUS ANNOUNCEMENT: 81 FR 37196.

CHANGE IN THE MEETING: This meeting was continued on June 16, 2016.

* * * * *

PERSON TO CONTACT FOR INFORMATION: Judith Ingram, Press Officer, Telephone: (202) 694-1220.

Shelley E. Garr,
Deputy Secretary.

[FR Doc. 2016-14736 Filed 6-17-16; 11:15 am]

BILLING CODE 6715-01-P